DEPARTMENT OF HEALTH AND HUMAN SERVICES

Centers for Disease Control and Prevention

[60Day-09-09BV]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Workload Management Study of Central Cancer Registries—New—Division of Cancer Prevention and Control, National Center for Chronic Disease Prevention and Health Promotion (NCCDPHP), Centers for Disease Control and Prevention (CDC).

Background and Brief Description

CDC currently supports the National Program of Cancer Registries (NPCR), a group of central cancer registries in 45 states, the District of Columbia, and 2 territories. The central cancer registries are data systems that collect, manage, and analyze data about cancer cases and cancer deaths. NPCR-funded central cancer registries submit population-based cancer incidence data to CDC on an annual basis (OMB No. 0920-0469, exp. 1/31/2010). In addition, NPCR-funded registries submit program and performance indicator information to CDC on a semi-annual schedule (OMB No. 0920-0706, exp. 12/31/2011). CDC uses the performance indicators to evaluate the registries' use of funds, their progress toward meeting objectives, and their infrastructure and operational attributes.

Central cancer registries report that they are chronically understaffed, and many registries are concerned about the impact of staff shortages on data quality standards. Staffing patterns are known to vary widely from registry to registry, and registries differ greatly in the number of incidence cases that they process as well as their use of information technology. Cancer registries have asked for clear staffing guidelines based on registry characteristics such as size (i.e., number of new cases annually), degree of automation, and registry-specific reporting procedures.

CDC proposes to conduct a one-time Workload Management Survey (WLM) in 2009-2010 to inform the development of staffing guidelines for central cancer registries. The WLM survey questions do not duplicate the program and performance indicator information reported to CDC on a routine basis. Respondents will be cancer registrars in the NPCR-funded central cancer registries in 45 states and the District of Columbia. Cancer registrars at each registry will maintain a paper-based Work Activities Journal for a one-week period. At the end of the week, the registry manager will consolidate the individual journal worksheets to prepare an aggregate Workload Management Survey for the registry, which will be submitted to CDC electronically.

Results of the WLM survey will enable CDC to assess the workforce necessary for meeting data reporting requirements and to estimate the impact of planned changes to surveillance data reporting. Finally, CDC will develop specific guidance so that cancer registry managers can more effectively measure workload, evaluate the need for staff and staff credentials, and advocate for adequate staffing.

Participation in the survey is voluntary. There are no costs to respondents other than their time.

Estimated Annualized Burden Hours
Type of respondents | Form name | Number of respondents | Number of responses per respondent | Average burden per response (in hours) | Total burden (in hours)
NPCR Registries | Workload Management Survey | 46 | 1 | 4 | 184
| Work Activities Journal | 368 | 1 | 2 | 736
Total |  |  |  |  | 920

Dated: June 1, 2009.
Maryam I. Daneshvar,
Acting Reports Clearance Officer, Centers for Disease Control and Prevention.

[FR Doc. E9-13302 Filed 6-5-09; 8:45 am]

BILLING CODE 4163-18-P